ENVIRONMENTAL PROTECTION AGENCY

[EPA-HQ-OPP-2013-0069; FRL-9383-4]

Pesticide Emergency Exemptions; Agency Decisions and State and Federal Agency Crisis Declarations

AGENCY: Environmental Protection Agency (EPA).

ACTION: Notice.

SUMMARY: EPA has granted emergency exemptions under the Federal Insecticide, Fungicide, and Rodenticide Act (FIFRA) for use of pesticides as listed in this notice. The exemptions were granted during the period October 1, 2012 through March 31, 2013 to control unforeseen pest outbreaks.

FOR FURTHER INFORMATION CONTACT: Lois Rossi, Registration Division (7505P), Office of Pesticide Programs, Environmental Protection Agency, 1200 Pennsylvania Ave. NW., Washington, DC 20460-0001; telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them.

Potentially affected entities may include:

• Crop production (NAICS code 111).

• Animal production (NAICS code 112).

• Food manufacturing (NAICS code 311).

• Pesticide manufacturing (NAICS code 32532).

B. How can I get copies of this document and other related information?

The docket for this action, identified by docket identification (ID) number EPA-HQ-OPP-2013-0069, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted emergency exemptions to the following State and Federal agencies. The emergency exemptions may take the following form: Crisis, public health, quarantine, or specific.

Under FIFRA section 18, EPA can authorize the use of a pesticide when emergency conditions exist. Authorizations (commonly called emergency exemptions) are granted to State and Federal agencies and are of four types:

1. A “specific exemption” authorizes use of a pesticide against specific pests on limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption, the type of exemption, the pesticide authorized and the pests, the crop or use for which authorized, and the duration of the exemption. EPA also gives the Federal Register citation for the time-limited tolerance, if any.

III. Emergency Exemptions

A. U.S. States and Territories

Arkansas

State Plant Board

Specific exemption: EPA authorized the use of amitraz in beehives to control varroa mite; December 10, 2012 to December 10, 2013.

Specific exemption: EPA authorized the use of potassium salt of hop beta acids in beehives to control varroa mite on December 10, 2012; Effective date: January 1, 2013 to December 31, 2013.

California

Department of Pesticide Regulation

Specific exemption: EPA authorized the use of boscalid and pyraclostrobin for post harvest use on Belgian endive to control the fungal pathogen, Sclerotinia sclerotiorum on November 15, 2012; Effective date: December 1, 2012 to February 15, 2013.

Specific exemption: EPA authorized the use of amitraz in beehives to control varroa mite; December 4, 2012 to December 4, 2013.

Specific exemption: EPA authorized the use of mancozeb on walnuts to control walnut blight (Xanthomonas campestris pv. juglandis); December 21, 2012 to June 15, 2013.

Specific exemption: EPA authorized the use of flonicamid on strawberries to control Lygus bug (Lygus hesperus); October 4, 2012 to November 30, 2012. Specific exemption: EPA authorized the use of thiabendazole in mushrooms to control trichoderma green mold; February 1, 2013 to January 11, 2014.

Specific exemption: EPA authorized the use of naphthaleneacetic acid, ethyl ester on avocado for sprout inhibition on March 20, 2013; Effective date: April 16, 2013 to:April 15, 2014.

Specific exemption: EPA authorized the use of spirotetramat on dry bulb onions to control thrips; February 15, 2013 to September 30, 2013.

Specific exemption: EPA authorized the use of potassium salt of hop beta acids in beehives to control varroa mite on December 17, 2012; Effective date: January 1, 2013 to December 31, 2013.

Colorado

Department of Agriculture

Specific exemption: EPA authorized the use of amitraz in beehives to control varroa mite; November 21, 2012 to November 21, 2013.

Specific exemption: EPA authorized the use of potassium salt of hop beta acids in beehives to control varroa mite; December 31, 2012 to December 31, 2013.

Specific exemption: EPA authorized the use of spirotetramat on dry bulb onions to control thrips; February 8, 2013 to September 30, 2013.

Delaware

Department of Agriculture

Specific exemption: EPA authorized the use of amitraz in beehives to control varroa mite; January 8, 2013 to December 31, 2013.

Specific exemption: EPA authorized the use of potassium salt of hop beta acids in beehives to control varroa mite; March 18, 2013 to December 31, 2013.

Specific exemption: EPA authorized the use of thiabendazole in mushrooms to control trichoderma green mold; January 18, 2013 to January 11, 2014.

Florida

Department of Agriculture and Consumer Services

Specific exemption: EPA authorized the use of amitraz in beehives to control varroa mite; December 4, 2012 to December 4, 2013.

Specific exemption: EPA authorized the use of potassium salt of hop beta acids in beehives to control varroa mite on December 17, 2012; Effective date: January 1, 2013 to December 31, 2013.

Georgia

Department of Agriculture

Specific exemption: EPA authorized the use of amitraz in beehives to control varroa mite; January 29, 2013 to December 31, 2013.

Specific exemption: EPA authorized the use of potassium salt of hop beta acids in beehives to control varroa mite; January 29, 2013 to December 31, 2013.

Hawaii

Department of Agriculture

Specific exemption: EPA authorized the use of amitraz in beehives to control varroa mite; February 1, 2013 to December 31, 2013.

Specific exemption: EPA authorized the use of potassium salt of hop beta acids in beehives to control varroa mite; January 29, 2013 to December 31, 2013.

Idaho

Department of Agriculture

Specific exemption: EPA authorized the use of linuron on lentils to control the weeds, prickly lettuce and dog fennel; December 10, 2012 to June 30, 2013.

Specific exemption: EPA authorized the use of amitraz in beehives to control varroa mite; December 31, 2012 to December 31, 2013.

Specific exemption: EPA authorized the use of potassium salt of hop beta acids in beehives to control varroa mite; January 23, 2013 to December 31, 2013.

Specific exemption: EPA authorized the use of spirotetramat on dry bulb onions to control thrips on January 29, 2013; Effective date: March 15, 2013 to September 15, 2013.

Illinois

Department of Agriculture

Specific exemption: EPA authorized the use of potassium salt of hop beta acids in beehives to control varroa mite; January 3, 2013 to December 31, 2013.

Specific exemption: EPA authorized the use of amitraz in beehives to control varroa mite; January 22, 2013 to December 31, 2013.

Indiana

Department of Agriculture

Specific exemption: EPA authorized the use of amitraz in beehives to control varroa mite; January 22, 2013 to December 31, 2013.

Iowa

Department of Agriculture and Land Stewardship

Specific exemption: EPA authorized the use of amitraz in beehives to control varroa mite; February 15, 2013 to December 31, 2013.

Specific exemption: EPA authorized the use of potassium salt of hop beta acids in beehives to control varroa mite; February 5, 2013 to December 31, 2013.

Kentucky

Department of Agriculture

Specific exemption: EPA authorized the use of amitraz in beehives to control varroa mite; December 10, 2012 to December 10, 2013.

Specific exemption: EPA authorized the use of potassium salt of hop beta acids in beehives to control varroa mite on December 10, 2012; Effective date: January 1, 2013 to December 31, 2013.

Louisiana

Department of Agriculture & Forestry

Specific exemption: EPA authorized the use of potassium salt of hop beta acids in beehives to control varroa mite; December 31, 2012 to December 31, 2013.

Specific exemption: EPA authorized the use of amitraz in beehives to control varroa mite; December 31, 2012 to December 31, 2013.

Specific exemption: EPA authorized the use of pyraclostrobin to control brown rust (Puccinia melanocephala) on sugarcane; February 12, 2013 to June 30, 2013.

Specific exemption: EPA authorized the use of anthraquinone on rice seed to repel blackbirds and reduce damage to rice seedlings; March 8, 2013 to June 1, 2013.

Maine

Department of Agriculture, Food, and Rural Resources

Specific exemption: EPA authorized the use of amitraz in beehives to control varroa mite; March 3, 2013 to December 31, 2013.

Specific exemption: EPA authorized the use of potassium salt of hop beta acids in beehives to control varroa mite; March 5, 2013 to December 31, 2013.

Maryland

Department of Agriculture

Specific exemption: EPA authorized the use of thiabendazole in mushrooms to control trichoderma green mold; January 18, 2013 to January 11, 2014.

Specific exemption: EPA authorized the use of potassium salt of hop beta acids in beehives to control varroa mite; January 23, 2013 to December 31, 2013.

Massachusetts

Department of Agricultural Resources

Specific exemption: EPA authorized the use of potassium salt of hop beta acids in beehives to control varroa mite; March 25, 2013 to December 31, 2013.

Michigan

Department of Agriculture

Specific exemption: EPA authorized the use of amitraz in beehives to control varroa mite; December 4, 2012 to December 4, 2013.

Specific exemption: EPA authorized the use of potassium salt of hop beta acids in beehives to control varroa mite on December 4, 2012; Effective date: January 1, 2013 to December 31, 2013.

Specific exemption: EPA authorized the use of kasugamycin on apples to control fire blight; March 19, 2013 to May 31, 2013.

Specific exemption: EPA authorized the use of spirotetramat on dry bulb onions to control thrips; March 11, 2013 to September 30, 2013.

Minnesota

Department of Agriculture

Specific exemption: EPA authorized the use of amitraz in beehives to control varroa mite; December 4, 2012 to December 4, 2013.

Specific exemption: EPA authorized the use of potassium salt of hop beta acids in beehives to control varroa mite on December 12, 2012; Effective date: January 1, 2013 to December 31, 2013.

Specific exemption: EPA authorized the use of spirotetramat on dry bulb onions to control thrips; March 11, 2013 to September 15, 2013.

Mississippi

Department of Agriculture

Specific exemption: EPA authorized the use of potassium salt of hop beta acids in beehives to control varroa mite on November 30, 2012; Effective date: January 1, 2013 to December 31, 2013.

Specific exemption: EPA authorized the use of amitraz in beehives to control varroa mite; December 4, 2012 to December 4, 2013.

Missouri

Department of Agriculture

Specific exemption: EPA authorized the use of potassium salt of hop beta acids in beehives to control varroa mite; December 31, 2012 to December 31, 2013.

Specific exemption: EPA authorized the use of amitraz in beehives to control varroa mite; December 31, 2012 to December 31, 2013.

Nebraska

Department of Agriculture

Specific exemption: EPA authorized the use of potassium salt of hop beta acids in beehives to control varroa mite; December 31, 2012 to December 31,

Specific exemption: EPA authorized the use of amitraz in beehives to control varroa mite; January 8, 2013 to December 31, 2013.

Nevada

Department of Agriculture

Specific exemption: EPA authorized the use of spirotetramat on dry bulb onions to control thrips; March 22, 2013 to September 30, 2013.

Specific exemption: EPA authorized the use of potassium salt of hop beta acids in beehives to control varroa mite; March 18, 2013 to December 31, 2013.

New York

Department of Environmental Conservation

Specific exemption: EPA authorized the use of spirotetramat on dry bulb onions to control thrips on January 29, 2013; Effective date: May 5, 2013 to September 15, 2013.

Specific exemption: EPA authorized the use of amitraz in beehives to control varroa mite; February 1, 2013 to December 31, 2013.

Specific exemption: EPA authorized the use of potassium salt of hop beta acids in beehives to control varroa mite; February 15, 2013 to December 31, 2013.

North Dakota

Department of Agriculture

Specific exemption: EPA authorized the use of amitraz in beehives to control varroa mite; November 21, 2012 to November 21, 2013.

Specific exemption: EPA authorized the use of potassium salt of hop beta acids in beehives to control varroa mite on December 17, 2012; Effective date: January 1, 2013 to December 31, 2013.

Ohio

Department of Agriculture

Specific exemption: EPA authorized the use of potassium salt of hop beta acids in beehives to control varroa mite on December 17, 2012; Effective date: January 1, 2013 to December 31, 2013.

Specific exemption: EPA authorized the use of amitraz in beehives to control varroa mite; February 1, 2013 to December 31, 2013.

Oregon

Department of Agriculture

Specific exemption: EPA authorized the use of amitraz in beehives to control varroa mite; November 15, 2012 to November 15, 2013.

Specific exemption: EPA authorized the use of potassium salt of hop beta acids in beehives to control varroa mite on December 21, 2012; Effective date: January 1, 2013 to December 31, 2013.

Specific exemption: EPA authorized the use of quinclorac on cranberries to control yellow loosestrife; March 1, 2013 to August 1, 2013.

Specific exemption: EPA authorized the use of fenoxaprop-p-ethyl in grasses grown for seed to control various weed species; February 13, 2013 to September 15, 2013.

Specific exemption: EPA authorized the use of spirotetramat on dry bulb onions to control thrips; March, 8, 2013 to September 15, 2013.

Pennsylvania

Department of Agriculture

Specific exemption: EPA authorized the use of thiabendazole in mushrooms to control trichoderma green mold; January 11, 2013 to January 11, 2014.

Specific exemption: EPA authorized the use of amitraz in beehives to control varroa mite; February 15, 2013 to December 31, 2013.

South Carolina

Department of Pesticide Regulation

Specific exemption: EPA authorized the use of amitraz in beehives to control varroa mite; February 15, 2013 to December 31, 2013.

Specific exemption: EPA authorized the use of potassium salt of hop beta acids in beehives to control varroa mite; February 15, 2013 to December 31, 2013.

South Dakota

Department of Agriculture

Specific exemption: EPA authorized the use of amitraz in beehives to control varroa mite; October 19, 2012 to October 19, 2013.

Specific exemption: EPA authorized the use of potassium salt of hop beta acids in beehives to control varroa mite; January 8, 2013 to December 31, 2013.

Texas

Department of Agriculture

Quarantine exemption: EPA authorized the use of fipronil in an expansion of the registered use around outside structures up to 10 feet up and out to control a newly introduced strain or species of Caribbean crazy ant; November 1, 2012, to November 1, 2015.

Specific exemption: EPA authorized the use of amitraz in beehives to control varroa mite; December 31, 2012 to December 31, 2013.

Specific exemption: EPA authorized the use of flutriafol on cotton to control cotton root rot; February 1, 2013 to June 30, 2013.

Specific exemption: EPA authorized the use of potassium salt of hop beta acids in beehives to control varroa mite; March 11, 2013 to December 31, 2013.

Utah

Department of Agriculture and Food

Specific exemption: EPA authorized the use of spirotetramat on dry bulb onions to control thrips; March 18, 2013 to September 1, 2013.

Specific exemption: EPA authorized the use of amitraz in beehives to control varroa mite; March 5, 2013 to December 31, 2013.

Specific exemption: EPA authorized the use of potassium salt of hop beta acids in beehives to control varroa mite; March 5, 2013 to December 31, 2013.

Vermont

Agency of Agriculture Food and Markets

Specific exemption: EPA authorized the use of potassium salt of hop beta acids in beehives to control varroa mite; October 17, 2012 to December 31, 2012.

Specific exemption: EPA authorized the use of potassium salt of hop beta acids in beehives to control varroa mite; March 28, 2013 to December 31, 2013.

Washington

Department of Agriculture

Specific exemption: EPA authorized the use of linuron on lentils to control the weeds, prickly lettuce and dog fennel; December 10, 2012 to June 30, 2013.

Specific exemption: EPA authorized the use of quinclorac on cranberries to control yellow loosestrife; March 1, 2013 to August 1, 2013.

Specific exemption: EPA authorized the use of amitraz in beehives to control varroa mite; January 22, 2013 to December 31, 2013.

Specific exemption: EPA authorized the use of potassium salt of hop beta acids in beehives to control varroa mite; January 23, 2013 to December 31, 2013.

Specific exemption: EPA authorized the use of spirotetramat on dry bulb onions to control thrips on February 8, 2013; Effective date: May 1, 2013 to October 31, 2013.

West Virginia

Department of Agriculture

Specific exemption: EPA authorized the use of amitraz in beehives to control varroa mite; December 31, 2012 to December 31, 2013.

Specific exemption: EPA authorized the use of potassium salt of hop beta acids in beehives to control varroa mite; March 8, 2013 to December 31, 2013.

Wisconsin

Department of Agriculture, Trade and Consumer Protection

Quarantine exemption: EPA authorized the use of pyrethrins to a single pond, for eradication efforts of the invasive Red Swamp Crayfish; November 26, 2012 to September 30, 2013.

Specific exemption: EPA authorized the use of amitraz in beehives to control varroa mite; December 31, 2012 to December 31, 2013.

Specific exemption: EPA authorized the use of potassium salt of hop beta acids in beehives to control varroa mite; February 7, 2013 to December 31, 2013.

Wyoming

Department of Agriculture

Specific exemption: EPA authorized the use of potassium salt of hop beta acids in beehives to control varroa mite on December 12, 2012; Effective date: January 1, 2013 to December 31, 2013.

Specific exemption: EPA authorized the use of amitraz in beehives to control varroa mite; December 31, 2012 to December 31, 2013.

Specific exemption: EPA authorized the use of diflubenzuron in alfalfa to control grasshoppers and Mormon crickets; March 22, 2013 to October 31, 2013.

B. Federal Department and Agencies

Agriculture Department

Animal and Plant Health Inspection Service

Quarantine exemption: EPA authorized the use of citric acid to control foot and mouth disease virus and African swine fever virus on porous and non-porous food and non-food contact surfaces; October 22, 2012 to October 22, 2015.

List of Subjects

Environmental protection, Pesticides and pests.

Dated: September 12, 2013.
Daniel J. Rosenblatt,
Acting Director, Registration Division, Office of Pesticide Programs.

[FR Doc. 2013-22703 Filed 9-17-13; 8:45 am]

BILLING CODE 6560-50-P